GENERAL SERVICES ADMINISTRATION/OFFICE OF PERSONNEL MANAGEMENT

Office of Communications; Cancellation of a Standard Form

AGENCY: General Services Administration.

ACTION: Notice.

SUMMARY: The following Standard Form is canceled because of low usage:

Of 5, Inquiry As to Availability.

DATES: Effective February 9, 2000.

FOR FURTHER INFORMATION CONTACT: Ms. Barbara Williams, General Services Administration, (202) 501-0581.

Dated: January 24, 2000.
Barbara M. Williams,
Deputy Standard and Optional Forms Management Officer.

[FR Doc. 00-2953 Filed 2-8-00; 8:45am]

BILLING CODE 6820-34-M